NATIONAL SCIENCE FOUNDATION

Committee on Equal Opportunities in Science and Engineering Notice of Meeting

In accordance with the Federal Advisory Committee Act (Pub. L. 92-463, as amended), the National Science Foundation announces the following meeting:

Name: Committee on Equal Opportunities in Science and Engineering (1173).

Dates/Time: May 31, 2006, 2:30 p.m.-5:30 p.m. June 1, 2006, 8:30 a.m.-5:30 p.m. and June 2, 2006, 8:30 a.m.-2 p.m.

Place: National Science Foundation, 4201 Wilson Boulevard, Room 1235 S, Arlington, VA 22230.

Type of Meeting: Open.

Contact Person: Dr. Margaret E.M. Tolbert, Senior Advisor and Executive Liaison, CEOSE, Office of Integrative Activities, National Science Foundation, 4201 Wilson Boulevard, Arlington, VA 22230. Telephone: (703) 292-8040 mtolbert@nsf.gov.

Minutes: May be obtained from the Executive Liaison at the above address.

Purpose of Meeting: To provide advice and recommendations concerning broadening participation in science and engineering.

Agenda:

Wednesday, May 31, 2006

Orientation meeting for New Members of CEOSE

Thursday, June 1, 2006

Welcome and Opening Statement by the CEOSE Chair

Introductions

Mini Symposium on Community Colleges

Topics To Be Presented and Discussed:

The Philosophy and History of Community Colleges

Challenges and Opportunities in Managing a Large Urban and Suburban Community College System

Current State of Affairs at the Nation's Community Colleges

The Role of Community Colleges in the Education of Recent Science and Engineering Graduates

Presentations and Discussions

The Intersection of Race, Gender and Disability in NSF's Employment Data

Asian Americans and Pacific Islanders' Issues: The Challenges of Success (http://www.nsf.gov/pubs/2005/nsf0551/)

The Louis Stokes Alliances for Minority Participation Program

Friday, June 2, 2006

Opening Statement by the CEOSE Chair

Statement from CEOSE Member Whose Term is Ending

Presentations/Discussions:

Broadening Participation Evaluation and Assessment within NSF

Subcommittee Reports and Deliberations

Report of CEOSE Liaisons to National Science Foundation Advisory Committees

Response to the NSF Strategic Plan

Completion of Unfinished Business

Dated: May 3, 2006.
Susanne Bolton,
Committee Management Officer.

[FR Doc. 06-4288 Filed 5-5-06; 8:45 am]

BILLING CODE 7555-01-M